DEPARTMENT OF TRANSPORTATION

Federal Transit Administration

Transfer of Federally Assisted Land or Facility

AGENCY: Federal Transit Administration, DOT.

ACTION: Notice of intent to transfer Federally assisted land or facility.

SUMMARY: Section 5334(g) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the former Loves Park Transit System intends to transfer a maintenance facility to the City of Loves Park for its Streets and Sanitation Department to use the building as a maintenance facility. The City of Loves Park currently owns the land, and the proposed transfer only includes transfer of the building. The facility consists of a one and two-story concrete block automotive/transit building which is approximately 52,561 square feet situated within a light industrial district of Loves Park, Illinois, with rights of ingress and egress onto the northerly side of Lawn Drive.

EFFECTIVE DATE: Any Federal agency interested in acquiring the facility must notify the FTA Region V Office of its interest by December 3, 2001.

ADDRESSES: Interested parties should notify the Regional Office by writing to Joel P. Ettinger, Regional Administrator, Federal Transit Administration, 200 West Adams, Suite 2410, Chicago, IL 60606.

FOR FURTHER INFORMATION CONTACT: Louise Carter, Director of Operations and Program Management at 312/353-2789.

SUPPLEMENTARY INFORMATION:

Background

49 U.S.C. section 5334(g) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government.

49 U.S.C. section 5334(g)(1)

Determinations:

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. section 5334(g)(1)(D) of the Federal Transit Laws. Accordingly, FTA hereby provides notice of the availability of the land or facility further described below. Any Federal agency interested in acquiring the affected facility should promptly notify the FTA.

If no Federal agency is interested in acquiring the existing facility, FTA will make certain that the other requirements specified in 49 U.S.C. section 5334(g)(1)(A) through (C) are met before permitting the asset to be transferred.

Additional Description of Facility

The property is a maintenance facility, consisting of a one and two-story concrete block automotive/transit building (the “Facility”) which is approximately 52,561 square feet situated within a light industrial district of Loves Park, Illinois, with rights of ingress and egress onto the northerly side of Lawn Drive. This is a two lane public street that is asphalt surfaced and runs in an east-west direction. The Facility is a of masonry construction with face brick. The roof system is a truss type, with a newer roof covering. There is a covered front canopy entry, which has a glass entry and large windows on the front of the building. The building contains approximately 16,453 square feet of gross area. This area is divided into an area containing 11,992 square feet with an eave height of 20 feet, an office area containing 2,490 square feet or 15.13% of the gross building area and a mezzanine storage area containing 1,971 feet. The building has concrete block walls. The interior finish includes a fair to average quality, 2′ × 2′ suspended acoustic ceiling, with carpeted floors and concrete block interior walls. There are two restrooms, a locker room and a break room. There is strip fluorescent lighting. There is an adequate electrical service, which appears to be at least 200 amps. There is gas-fired, strip radiant heat in the warehouse area. The eastern portion of the building also has a heated floor. The office area has a gas forced air system with air conditioning. A 40-gallon, gas-fired heater provides hot water. There is adequate onsite, blacktopped driveways and parking areas. There are concrete curbs and there is minimal but adequate landscaping.

Issued on: October 25, 2001.
Donald Gismondi,
Deputy Regional Administrator.

[FR Doc. 01-27403 Filed 10-31-01; 8:45 am]

BILLING CODE 4910-57-P